DEPARTMENT OF TRANSPORTATION

Federal Aviation Administration

Notice of Cancellation of Environmental Impact Statement for Toledo Express Airport, Toledo, OH

AGENCY: Federal Aviation Administration, DOT.

ACTION: Cancellation of Environmental Impact Statement Process.

SUMMARY: The Federal Aviation Administration (FAA), Great Lakes Region, planned to prepare an Environmental Impact Statement for proposed implementation of air traffic control noise abatement procedures, construction of a new air cargo and large aircraft maintenance facility, and associated noise compatibility program mitigation measures at Toledo Express Airport. The Notice of Intent to Prepare an Environmental Impact Statement (EIS) and Hold a Public Scoping Meeting was published in the Federal Register on June 27, 1996 (61 FR 33573). Two scoping meetings were held on August 6, 1996. The Draft EIS was released on January 29, 1999. A notice to hold a public hearing was published in the Federal Register on February 2, 1999 (64 FR 5089-5090). The public hearing was held on March 10, 1999. On April 13, 1999, the FAA published in the Federal Register (64 FR 18065) a notice to extend the public comment period until April 30, 1999.

On June 26, 2001 the FAA received notification from the Toledo-Lucas County Port Authority that it wished to release from consideration construction of the proposed new air cargo hub and large aircraft maintenance facility. As such, the FAA is hereby canceling the environmental impact statement process.

The Toledo-Lucas County Port Authority desires to retain for environmental consideration implementation of the air traffic control noise abatement procedures and associated noise compatibility program mitigation measures. The FAA will examine the environmental effects of the proposed air traffic procedures and mitigation measures through preparation of an environmental assessment. To facilitate receipt of comments on the environmental assessment, a public hearing will be scheduled in the near future. Notice of availability of the draft environmental assessment and conduct a public hearing will be published in the Federal Register.

FOR FURTHER INFORMATION CONTACT: Ms. Annette Davis, Federal Aviation Administration, Great Lakes Region, Air Traffic Division, 2300 East Devon Avenue, Des Plaines, Illinois, 60018, (847) 294-8091.

Issued in Des Plaines, Illinois on May 21, 2002.
Nancy B. Shelton,
Manager, Air Traffic Division.

[FR Doc. 02-14355 Filed 6-6-02; 8:45 am]

BILLING CODE 4910-13-M